ENVIRONMENTAL PROTECTION AGENCY

[ER-FRL-9006-6]

Environmental Impacts Statements; Notice of Availability

Responsible Agency: Office of Federal Activities, General Information (202) 564-7146 or http://www.epa.gov/compliance/nepa/.

Weekly receipt of Environmental Impact Statements.

Filed 12/10/2012 Through 12/14/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA. While this system eliminates the need to submit paper or CD copies to EPA to meet filing requirements, electronic submission does not change requirements for distribution of EISs for public review and comment. To begin using e-NEPA, you must first register with EPA's electronic reporting site— https://cdx.epa.gov/epa_home.asp.

EIS No. 20120387, Draft EIS, FHWA, VA, I-64 Hampton Roads Bridge-Tunnel, from I-664 in the City of Hampton to I-564 in the City of Norfolk, VA, Comment Period Ends: 02/13/2013, Contact: Marisel Lopez-Cruz 804-775-3376.

EIS No. 20120388, Draft EIS, USACE, CA, Elverta Specific Plan Project, Master Planned Community Development, Sacramento County, CA, Comment Period Ends: 02/04/2013, Contact: Marc A. Fugler 916-557-5255.

EIS No. 20120389, Final EIS, USFWS, WA, Malheur National Wildlife Refuge Comprehensive Conservation Plan, Harney County, WA, Review Period Ends: 01/22/2013, Contact: Tim Bodeen 541-493-2612.

EIS No. 20120390, Draft EIS, USFWS, AK, Shadura National Gas Development Project, Kenai National Wildlife Refuge and Kenai Peninsula Borough, AK, Comment Period Ends: 02/04/2013, Contact: Peter Wikoff 907-786-3357.

EIS No. 20120391, Final EIS, BLM, CA, McCoy Solar Energy Project, Proposed Plan Amendment, Riverside County, CA, Review Period Ends: 01/22/2013, Contact: Jeffery K. Childers 951-697-5308.

EIS No. 20120392, Draft EIS, USACE, 00, Lower Snake River Programmatic Sediment Management Plan, Washington and Idaho, Comment Period Ends: 02/08/2013, Contact: Sandra Shelin 509-527-7265.

EIS No. 20120393, Final EIS, WAPA, AZ, Quartzsite Solar Energy Project and Proposed Yuma Field Office Resource Management Plan Amendment, La Paz County, AZ, Review Period Ends: 01/22/2013, Contact: Matthew Blevins 720-962-7261.

Dated: December 18, 2012.
Cliff Rader,
Director, NEPA Compliance Division, Office of Federal Activities.

[FR Doc. 2012-30821 Filed 12-20-12; 8:45 am]

BILLING CODE 6560-50-P